ENVIRONMENTAL PROTECTION AGENCY

[FRL- 9929-02-Region-6]

Public Water System Supervision Program Revision for the State of Arkansas

AGENCY: Environmental Protection Agency (EPA).

ACTION: Notice of tentative approval.

SUMMARY: Notice is hereby given that the State of Arkansas is revising its approved Public Water System Supervision (PWSS) program. Arkansas has adopted the Revised Total Coliform Rule (RTCR) by reference under Sections I.B, V.A and VII of the Arkansas Rules and Regulations Pertaining to Public Water Systems. EPA has determined that the RTCR primacy application submitted by Arkansas is no less stringent than the corresponding federal regulations. Therefore, EPA intends to approve this PWSS program revision package.

DATES: All interested parties may request a public hearing. A request for a public hearing must be submitted by July 10, 2015 to the Regional Administrator at the EPA Region 6 address shown below. Frivolous or insubstantial requests for a hearing may be denied by the Regional Administrator. However, if a substantial request for a public hearing is made by July 10, 2015, a public hearing will be held. If no timely and appropriate request for a hearing is received and the Regional Administrator does not elect to hold a hearing on his own motion, this determination shall become final and effective on July 10, 2015. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:00 a.m. and 4:30 p.m., Monday through Friday, at the following offices: Arkansas Department of Health, Engineering Section, 4815 West Markham Street, Little Rock, Arkansas 72205; and United States Environmental Protection Agency, Region 6, Drinking Water Section (6WQ-SD), 1445 Ross Avenue, Suite 1200, Dallas, Texas 75202. Copies of the documents which explain the rule can also be obtained at EPA's Web site at https://www.federalregister.gov/articles/2013/02/13/2012-31205/national-primary-drinking-water-regulations-revisions-to-the-total-coliform-rule and https://www.federalregister.gov/articles/2014/02/26/2014-04173/national-primary-drinking-water-regulations-minor-corrections-to-the-revisions-to-the-total-coliform, or by writing or calling Ms. Evelyn Rosborough at the address below.

FOR FURTHER INFORMATION CONTACT: For further information contact Evelyn Rosborough, Environmental Protection Specialist, Water Quality Protection Division, U.S. Environmental Protection Agency Region 6, 1445 Ross Ave., Dallas, TX 75202-2733, telephone (214) 665-7515, facsimile (214) 665-6490, or email: rosborough.evelyn@epa.gov.

SUPPLEMENTARY INFORMATION: Authority: Section 1413 of the Safe Drinking Water Act, as amended (1996), and 40 CFR part 142 of the National Primary Drinking Water Regulations.

Dated: June 2, 2015.
Ron Curry,
Regional Administrator, Region 6.

[FR Doc. 2015-14227 Filed 6-9-15; 8:45 am]

BILLING CODE 6560-50-P